NUCLEAR REGULATORY COMMISSION

[Docket No. 50-155]

Consumers Energy Company; Big Rock Point Plant; Environmental Assessment and Finding of No Significant Impact

The U.S. Nuclear Regulatory Commission (NRC) is considering approval of a request to dispose of demolition debris in accordance with Title 10 of the Code of Federal Regulations (10 CFR) section 20.2002 for Facility Operating License No. DPR-6, issued to Consumers Energy Company, (the licensee), for the possession of the Big Rock Point (BRP) Plant, located in Charlevoix County, Michigan. Therefore, as required by 10 CFR 51.21, the NRC is issuing this environmental assessment and finding of no significant impact.

Environmental Assessment

Identification of the Proposed Action

The proposed action would approve the disposal of BRP Plant demolition debris that could contain trace quantities of licensed materials in a State of Michigan landfill. The debris would consist of flooring materials, concrete, rebar, roofing materials, structural steel, soils associated with digging up foundations, and concrete and/or asphalt pavement or other similar solid materials originating from decommissioning activities. A radiological survey process would be used to determine if the debris is acceptable for landfill disposal. The request for approval is submitted pursuant to 10 CFR 20.2002 due to the potential presence of licensed material in the debris.

The proposed action is in accordance with the licensee's application requesting approval dated March 14, 2001, as supplemented by letters dated May 18 and June 20, 2001.

The Need for the Proposed Action

The proposed action is needed to dispose of demolition debris that may contain trace quantities of licensed material in a State of Michigan landfill prior to license termination as opposed to (1) terminating the license with the material remaining onsite (either with structures intact or demolished) in accordance with 10 CFR 20, subpart E, or (2) handling the debris as low level radioactive waste and shipping it to a low level waste facility. As stated in the proposal, the licensee does not intend to make this submittal for intentional disposal of radioactive waste, but recognizes that a potential exists for trace quantities of licensed material to be present at levels below instrument detection capabilities. Disposal of the demolition debris in the manner proposed is protective of public health and safety, is consistent with as low as reasonably achievable, and is the most cost-effective alternative.

Environmental Impacts of the Proposed

The NRC has completed its evaluation of the proposed action and concludes that the environmental impacts of processing the total waste projected for BRP (635,100 cubic feet), which includes the 563,000 cubic feet of demolition debris proposed to be sent to a State of Michigan landfill, are bounded by the NUREG-0586, “Final Generic Environmental Impact Statement on Decommissioning of Nuclear Facilities,” (GEIS) evaluation of 18,975 cubic meters (670,096 cubic feet) of waste disposal for a generic boiling water reactor. Adherence to the radiological survey process would ensure that the potential radiological dose posed by the demolition debris to a transport worker, a landfill worker, or a member of the public is conservatively estimated at a maximum of 1.0 millirem/year.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in (1) terminating the license for unrestricted use in accordance with 10 CFR part 20, subpart E, with the demolition debris remaining onsite (either with structures intact or demolished), or (2) handling the debris as low level radioactive waste and shipping it to a low level waste facility. The environmental impacts of the proposed action and the alternative action are similar.

Alternative Use of Resources

This action does not involve the use of any resources not previously considered in BRP's Environmental Report for Decommissioning, dated February 27, 1995, or in the GEIS.

Agencies and Persons Consulted

On May 22, 2001, the staff consulted with the Michigan State official, Mr. David W. Minnaar of the Michigan Department of Environmental Quality, Drinking Water and Radiological Protection Division, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 14, 2001, as supplemented by letters dated May 18 and June 20, 2001. Documents may be examined, and/or copied for a fee, at the NRC's Public Document Room (PDR), located at One White Flint North, 11555 Rockville Pike (first floor), Rockville, Maryland. Publicly available records will be accessible electronically from the Agencywide Documents Access and Management System's (ADAMS) Public Library component on the NRC Web site, http://www.nrc.gov (the Public Electronic Reading Room). Persons who do not have access to ADAMS or who encounter problems in accessing the documents located in ADAMS should contact the NRC PDR Reference staff by telephone at 1-800-397-4209, or 301-415-4737, or by e-mail at pdr@nrc.gov.

For the Nuclear Regulatory Commission.
Dated at Rockville, Maryland, this 3rd day of December, 2001.
David J. Wrona,
Project Manager, Section 1, Project Directorate IV, Division of Licensing Project Management, Office of Nuclear Reactor Regulation.

[FR Doc. 01-30344 Filed 12-6-01; 8:45 am]

BILLING CODE 7590-01-P